OVERSEAS PRIVATE INVESTMENT CORPORATION

June 24, 2010 Board of Directors Meeting

Time and Date: Thursday, June 24, 2010, 10 a.m. (Open Portion); 10:15 a.m. (Closed Portion)

Place: Offices of the Corporation, Twelfth Floor Board Room, 1100 New York Avenue, NW., Washington, DC.

Status: Meeting Open to the Public from 10 a.m. to 10:15 a.m. Closed portion will commence at 10:15 a.m. (approx.)

Matters to be Considered:

1. President's Report

2. Approval of March 31, 2010 Minutes (Open Session)

Further Matters to be Considered: (Closed to the Public 10:15 a.m.)

1. Finance Project—Middle East, North Africa, Central and South Asia, Pakistan, Sri Lanka, Tajikistan, Turkey, Turkmenistan, Uzbekistan, Nepal

2. Finance Project—Middle East and North Africa

3. Finance Project—Levant and North Africa

4. Finance Project—Palestine

5. Finance Project—Middle East and North Africa

6. Finance Project—North and East Africa

7. Finance Project—Pakistan

8. Finance Project—West Africa

9. Finance Project—Southeast Asia

10. Finance Project—Brazil, Chile, Colombia, Costa Rica

11. Approval of March 31, 2010 Minutes (Closed Session)

12. Pending Major Projects

13. Reports

Written summaries of the projects to be presented will be posted on OPIC's Web site on or about February 24, 2010.

Contact Person for Information: Information on the meeting may be obtained from Connie M. Downs at (202) 336-8438.

Dated: May 14, 2010.
Connie M. Downs,
Corporate Secretary, Overseas Private Investment Corporation.

[FR Doc. 2010-11989 Filed 5-14-10; 4:15 pm]

BILLING CODE 3210-01-P